DEPARTMENT OF ENERGY

Federal Energy Regulatory Commission

Notice of Staff Attendance at Southwest Power Pool Markets and Operation Policy Committee and Strategic Planning Committee Meetings

January 5, 2011.

The Federal Energy Regulatory Commission hereby gives notice that members of its staff may attend the meetings of the Southwest Power Pool, Inc. (SPP) Markets and Operations Policy Committee (MOPC) and the Strategic Planning Committee (SPC), as noted below. Their attendance is part of the Commission's ongoing outreach efforts.

SPP MOPC

January 11, 2011 (1 p.m.-5 p.m.), January 12, 2011 (8 a.m.-3 p.m.), Doubletree Hotel, 300 Canal Street, New Orleans, LA 70130. 504-581-1300.

SPP SPC

January 13, 2011 (8 a.m.-3 p.m.), Doubletree Hotel, 300 Canal Street, New Orleans, LA 70130. 504-581-1300.

The discussions may address matters at issue in the following proceedings:

Docket No. ER06-451, Southwest Power Pool, Inc.

Docket No. ER08-1419, Southwest Power Pool, Inc.

Docket No. ER09-35, Tallgrass Transmission LLC.

Docket No. ER09-36, Prairie Wind Transmission LLC.

Docket No. ER09-659, Southwest Power Pool, Inc.

Docket No. ER09-1050, Southwest Power Pool, Inc.

Docket No. OA08-61, Southwest Power Pool, Inc.

Docket No. OA08-104, Southwest Power Pool, Inc.

Docket No. ER10-659, Southwest Power Pool, Inc

Docket No. ER10-696, Southwest Power Pool, Inc.

Docket No. ER10-941, Southwest Power Pool, Inc.

Docket No. ER10-1069, Southwest Power Pool, Inc.

Docket No. ER10-1254, Southwest Power Pool, Inc.

Docket No. ER10-1269, Southwest Power Pool, Inc.

Docket No. ER10-1697, Southwest Power Pool, Inc.

Docket No. ER10-1960, Southwest Power Pool, Inc.

Docket No. ER10-2244, Southwest Power Pool, Inc.

Docket No. ER11-13, Southwest Power Pool, Inc.

Docket No. ER11-2071, Southwest Power Pool, Inc.

Docket No. ER11-2101, Southwest Power Pool, Inc.

Docket No. ER11-2103, Southwest Power Pool, Inc.

Docket No. ER11-2188, Southwest Power Pool, Inc.

Docket No. ER11-2190, Southwest Power Pool, Inc.

Docket No. ER11-2194, Southwest Power Pool, Inc.

Docket No. ER11-2198, Southwest Power Pool, Inc.

Docket No. ER11-2103, Southwest Power Pool, Inc.

Docket No. ER11-2188, Southwest Power Pool, Inc.

Docket No. ER11-2190, Southwest Power Pool, Inc.

Docket No. ER11-2194, Southwest Power Pool, Inc.

Docket No. ER11-2198, Southwest Power Pool, Inc.

Docket No. ER11-2205, Southwest Power Pool, Inc.

Docket No. ER11-2220, Southwest Power Pool, Inc.

Docket No. ER11-2291, Southwest Power Pool, Inc.

Docket No. ER11-2303, Southwest Power Pool, Inc.

Docket No. ER11-2308, Southwest Power Pool, Inc.

Docket No. ER11-2309, Southwest Power Pool, Inc.

Docket No. ER11-2315, Southwest Power Pool, Inc.

Docket No. ER11-2317, Southwest Power Pool, Inc.

Docket No. ER11-2345, Southwest Power Pool, Inc.

Docket No. ER11-2385, Southwest Power Pool, Inc.

Docket No. ER11-2401, Southwest Power Pool, Inc.

Docket No. ER11-2415, Southwest Power Pool, Inc.

Docket No. ER11-2425, Southwest Power Pool, Inc.

Docket No. ER11-2428, Southwest Power Pool, Inc.

Docket No. ER11-2525, Southwest Power Pool, Inc.

Docket No. ER11-2528, Southwest Power Pool, Inc.

Docket No. ER11-2619, Southwest Power Pool, Inc.

These meetings are open to the public.

For more information, contact Patrick Clarey, Office of Energy Market Regulation, Federal Energy Regulatory Commission at (317) 249-5937 or patrick.clarey@ferc.gov.

Kimberly D. Bose,
Secretary.

[FR Doc. 2011-541 Filed 1-12-11; 8:45 am]

BILLING CODE 6717-01-P